DEPARTMENT OF DEFENSE

Defense Intelligence Agency

Privacy Act of 1974; Systems of Records

AGENCY: Defense Intelligence Agency.

ACTION: Notice to add a system of records.

SUMMARY: The Defense Intelligence Agency proposes to add a system of records notice to its inventory of record systems subject to the Privacy Act of 1974 (5 U.S.C. 552a), as amended.

DATES: This action will be effective without further notice on December 27, 2005 unless comments aqre received that would result in a contrary determination.

ADDRESSES: Send comments to Freedom of Information Act Office, Defense Intelligence Agency (DAN-1A), 200 MacDill Blvd, Washington, DC 2030-5100.

FOR FURTHER INFORMATION CONTACT: Ms. Melissa Folz at (202) 231-4291.

SUPPLEMENTARY INFORMATION: The Defense Intelligence Agency notices for systems of records subject to the Privacy Act of 1974 (5 U.S.C. 552a), as amended, have been published in the Federal Register and are available from the address above.

The proposed system report, as required by 5 U.S.C. 552a(r) of the Privacy Act of 1974, as amended, was submitted on November 18, 2005 to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 18, 2005.
L.M. Bynum,
OSD Federal Register Liaison Officer, Department of Defense.

LDIA 05-0003

System Name:

Joint Intelligence Virtual University (JIVU II).

System Locations:

Regional Support Command (RSC) Northeast Continental United States (CONUS): Defense Intelligence Agency, Washington, DC 20340.

Regional Support Command (RSC) West Continental United States (CONUS): Colorado Springs, CO.

Regional Support Command (RSC) Pacific Command (PACOM): Honolulu, HI.

Categories of Individuals Covered by the System:

All individuals with access to the Joint Worldwide Intelligence Communications System (JWICS) and the Secret Internet Protocol Router Network (SIPRNET) networks.

Categories of Records in the System:

The system consists of education, training, and Career Development material and employee information such as name, email address, organization, Social Security Number, position number, position job code and other optional data to include title, address, city, state, zip code, country, phone number, and brief biography.

Authority for Maintenance of the System:

The National Security Act of 1947, as amended, (50 U.S.C. 401 et seq.); 10 U.S.C. 113; 10 U.S.C. 125; and E.O. 9397 (SSN).

Purpose(s):

The purpose of the system is to establish a system of records for the JIVU, an Intelligence Community training system which permits users of the Joint Worldwide Intelligence Communication System (JWICS) and the Secret Internet Protocol Router Network (SIPRNET) system, to take training courses for career advancement and job performance and to link such training to the user's personal Human Resource records.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The “Blanket Routine Uses” set forth at the beginning of the Defense Intelligence Agency's compilation of systems records notices apply to this system.

Policies and Practices for Storing, Retrieving, Accessing, Retaining, and Disposing of Records in the System:

Storage:

Automated within an Oracle database, maintained on magnetic tape for backup and recovery.

Retrievability:

Data will be retrievable by name or user login identifier.

Safeguards:

The servers hosting the JIVU application and the servers hosting the Oracle database are located in a secure area under employee supervision 24/7. Records are maintained and accessed by authorized personnel via the JWICS and SIPRNET internal, classified networks.

Retention and Disposal:

Disposition pending (until the National Archives and Records Administration has approved retention and disposition of these records, treat as permanent).

System Manager(s) and Address:

Directorate of Personnel (DP).

Defense Intelligence Agency, Washington, DC 20340-3191.

Notification Procedure:

Individuals seeking to determine whether information about themselves is contained in this system of records should address written inquiries to the Freedom of Information Act Office, Defense Intelligence Agency (DAN-1A), 200 MacDill Blvd., Washington, DC 20340-5100.

Individuals should provide their full name, current address, telephone number and Social Security Number.

Record Access Procedures:

Individuals seeking access to information about themselves contained in this system of records should address written inquiries to the Freedom of Information Act Office, Defense Intelligence Agency (DAN-1A), 200 MacDill Blvd., Washington, DC 2030-5100.

Individuals should provide their full name, current address, telephone number and Social Security Number.

Contesting Record Procedures:

DIA's rules for accessing records, for contesting contents and appealing initial Agency determinations are published in DIA Regulation 12-12 “Defense Intelligence Agency Privacy Program”; 32 CFR part 319—Defense Intelligence Agency Privacy Program; or may be obtained from the system manager.

Record Source Categories:

Agency officials, employees, educational institutions, parent Services of individuals and immediate supervisor on station, and other Government officials.

Exemptions Claimed for the system:

None.

[FR Doc. 05-23265 Filed 11-23-05; 8:45 am]

BILLING CODE 5001-06-M